DEPARTMENT OF HEALTH AND HUMAN SERVICES

Centers for Disease Control and Prevention

Procedures and Costs for Use of the Research Data Center; Amendment

In the notice document announcing the “Procedures and Costs for Use of the Research Data Center,” appearing on page 67584 in the Federal Register issue of Thursday, November 18, 2004, the notice is amended to extend the comment period as follows:

On page 67584 under the DATES heading, change “December 9, 2004”, to “March 1, 2005.”

All other information in the document remains unchanged.

Dated: December 8, 2004.
James D. Seligman,
Associate Director for Program Services, Centers for Disease Control and Prevention (CDC).

[FR Doc. 04-27514 Filed 12-15-04; 8:45 am]

BILLING CODE 4163-18-P